DEPARTMENT OF DEFENSE

Department of the Army

[Docket ID USA-2014-0046]

Privacy Act of 1974; System of Records

AGENCY: Department of the Army, DoD.

ACTION: Notice to alter a system of records.

SUMMARY: The Department of the Army proposes to alter a system of records, A0715 DAJA, entitled “Army Procurement Fraud Branch Misconduct Files”, in its existing inventory of records systems subject to the Privacy Act of 1974, as amended. This system is used to determine whether criminal, administrative, or civil proceedings should be initiated against the contractor with the government or government procurement officials for criminal or other misconduct, or unsatisfactory performance in connection with procurement activities and to maintain and distribute a list of contractors determined to be ineligible to participate in Government procurement activities.

DATES: Comments will be accepted on or before January 9, 2015. This proposed action will be effective on the day following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Office Web site at http://dpclo.defense.gov/.

The proposed systems reports, as required by 5 U.S.C. 552a(r) of the Privacy Act, as amended were submitted on November 24, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 5, 2014.
Aaron Siegel,
Alternate OSD Federal Register Liaison Officer, Department of Defense.

A0715 DAJA

System name:

Procurement Misconduct Files (July 26, 2001, 66 FR 39027).

Changes:

* * * * *

System name:

Delete entry and replace with “Army Procurement Fraud Branch Misconduct Files.”

System location:

Delete entry and replace with “United States Army Legal Services Agency, Procurement Fraud Branch, 9275 Gunston Road, Building 1450, Fort Belvoir, Virginia 22060-5546.”

Categories of individuals covered by the system:

Delete entry and replace with “Individuals or legal entities investigated for alleged procurement misconduct, such as fraudulent activities in securing or performing a government contract, or other conduct indicating a lack of present responsibility within the meaning of the Federal Acquisition Regulations.”

Categories of records in the system:

Delete entry and replace with “Criminal and administrative investigations of fraudulent, criminal, or other misconduct or unsatisfactory performance in connection with government procurement activities; names of individuals; procurement fraud case number; and the list of parties excluded from procurement programs.”

Authority for maintenance of the system:

Delete entry and replace with “10 U.S.C. 3013, Secretary of the Army; 48 CFR Chapter 2, Defense Federal Acquisition Regulations; Federal Acquisition Regulations 9.406-3; DoD Instruction 7050.05, Coordination of Remedies for Fraud and Corruption Related to Procurement Activities; and Army Regulation 27-40, Chapter 8, Litigation, Remedies in Procurement Fraud and Corruption.”

Purpose(s):

Delete entry and replace with “To determine whether criminal, administrative, or civil proceedings should be initiated against the contractor with the government or government procurement officials for criminal or other misconduct, or unsatisfactory performance in connection with procurement activities and to maintain and distribute a list of contractors determined to be ineligible to participate in Government procurement activities.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 55a(b)(3) as follows:

Information may be disclosed to the Department of Justice, United States Attorneys, and Federal law enforcement agencies in the course of their official functions.

The DoD Blanket Routine Uses set forth at the beginning of the Army's compilation of systems of records notices may apply to this system.”

* * * * *

Storage:

Delete entry and replace with “Electronic storage media and paper records.”

Retrievability:

Delete entry and replace with “By name and procurement fraud case number.”

Safeguards:

Delete entry and replace with “Records are maintained in file cabinets accessible only by authorized personnel who are properly instructed in the permissible use of the information in the performance of their duties. DoD Components and approved users ensure that electronic records collected and used are maintained in controlled areas accessible only to authorized personnel. Physical security differs from site to site, but the automated records must be maintained in controlled areas accessible only by authorized personnel. Access to computerized data is restricted by use of common access cards (CACs) and is accessible only by users with an authorized account. The system and electronic backups are maintained in controlled facilities that employ physical restrictions and safeguards such as security guards, identification badges, key cards, and locks.”

* * * * *

System manager(s) and address:

Delete entry and replace with “Chief, Procurement Fraud Branch, United States Army Legal Services Agency, 9275 Gunston Road, Building 1450, Fort Belvoir, Virginia 22060-5546.”

Notification procedure:

Delete entry and replace with “Individuals seeking to determine whether information about themselves is contained in this system should address inquiries to the Office of the United States Army Legal Services Agency, Chief Procurement Fraud Branch, 9275 Gunston Road, Building 1450, Fort Belvoir, Virginia 22060-5546.

Individuals should provide their full name, and current address and telephone number for verification purposes, any specific details that will enable locating the record, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Record access procedures:

Delete entry and replace with “Individuals seeking access to information about themselves contained in this system should address inquiries to the Office of the United States Army Legal Services Agency, Chief Procurement Fraud Branch, 9275 Gunston Road, Building 1450, Fort Belvoir, Virginia 22060-5546.

Individuals should provide their full name, and current address and telephone number for verification purposes, any specific details that will enable locating the record, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

* * * * *

[FR Doc. 2014-28892 Filed 12-9-14; 8:45 am]

BILLING CODE 5001-06-P